DEPARTMENT OF HOMELAND SECURITY

Coast Guard

33 CFR Parts 100 and 165

[Docket Number USCG-2014-0446]

RIN 1625-AA08; 1625-AA00

Special Local Regulations and Safety Zones; Marine Events in Captain of the Port Long Island Sound Zone

AGENCY: Coast Guard, DHS.

ACTION: Temporary final rule.

SUMMARY: The Coast Guard is establishing two special local regulations for two separate marine events and establishing three safety zones for two fireworks displays and one swim event within the Captain of the Port (COTP) Long Island Sound (LIS) Zone. This temporary final rule is necessary to provide for the safety of life on navigable waters during these events. Entry into, transit through, mooring or anchoring within these regulated areas and safety zones is prohibited unless authorized by COTP Sector Long Island Sound.

DATES: This rule is effective without actual notice from August 12, 2014 until 10:45 p.m. on August 17, 2014. For the purposes of enforcement, actual notice will be used from the date the rule was signed, July 25, 2014 until August 12, 2014.

ADDRESSES: Documents mentioned in this preamble are part of docket [USCG-2014-0446]. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Petty Officer Scott Baumgartner, Prevention Department, Coast Guard Sector Long Island Sound, (203) 468-4559, Scott.A.Baumgartner@uscg.mil. If you have questions on viewing or submitting material to the docket, call Cheryl Collins, Program Manager, Docket Operations, telephone (202) 366-9826.

SUPPLEMENTARY INFORMATION:

Table of Acronyms

COTP Captain of the Port

DHS Department of Homeland Security

FR Federal Register

NPRM Notice of Proposed Rulemaking

A. Regulatory History and Information

This rulemaking establishes two special local regulations for two regattas and three safety zones for two fireworks displays and one swim event. Each event and its corresponding regulatory history is discussed below.

The Aquapalooza is a recurring marine event but with no regulatory history.

The Connecticut River Raft Race is also a recurring marine event but with a regulatory history. Specifically, the Coast Guard established a special local regulation in 2012 for this event via a final rule entitled, “Safety Zones & Special local Regulations; Recurring Marine Events in Captain of the Port Long Island Sound Zone.” This rulemaking was published on May 24, 2013 in the Federal Register (78 FR 31402). In 2013, the special local regulation for the Connecticut River Raft Race was modified by a temporary final rule issued by the Coast Guard entitled, “Special Local Regulations and Safety Zones; Marine Events in Captain of the Port Long Island Sound Zone.” This rulemaking was published on July 10, 2013 in the Federal Register (78 FR 41300).

The Sebonack Golf Club Fireworks Display is a new event with no regulatory history. The Sebonack Golf Club has helped sponsor a similar recurring event that was held in the same location on July 6, 2013 and known as National Golf Links Fireworks. A safety zone was established in 2012 for the National Golf Links Fireworks event via a final rule entitled, “Safety Zones & Special local Regulations; Recurring Marine Events in Captain of the Port Long Island Sound Zone.” This rulemaking was published on May 24, 2013 in the Federal Register (78 FR 31402).

Island Beach Two Mile Swim is a recurring event with some regulatory history. Specifically, the Coast Guard established a safety zone around this event on August 3, 2013 via a temporary final rule not published in the Federal Register entitled, “Safety Zone, Island Beach Two Mile Swim, Captain Harbor, Greenwich, CT.”

The Bohlsen Wedding Fireworks Display is a new event with no regulatory history.

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because doing so would be impracticable and contrary to the public interest. There is insufficient time to publish a NPRM and solicit comments from the public before these events take place. Thus, waiting for a comment period to run would inhibit the Coast Guard's ability to fulfill its mission to keep the ports and waterways safe.

Under 5 U.S.C. 553(d)(3), and for the same reasons stated in the preceding paragraph, the Coast Guard finds that good cause exists for making this rule effective less than 30 days after publication in the Federal Register.

B. Basis and Purpose

The legal basis for this temporary rule is 33 U.S.C. 1231, 1233; 46 U.S.C. Chapter 701, 3306, 3703; 50 U.S.C. 191, 195; 33 CFR 1.05-1, 6.04-1, 6.04-6 and 160.5; Pub. L. 107-295, 116 Stat. 2064; Department of Homeland Security Delegation No. 0170.1 which collectively authorize the Coast Guard to define regulatory special local regulations and safety zones.

As discussed in the Regulatory History and Information section, two regattas, two fireworks displays, and one swim event will take place in the COTP Long Island Sound Zone between July 27, 2014 and August 17, 2014. The COTP Long Island Sound has determined that the two special local regulations and the three safety zones established by this temporary final rule are necessary to provide for the safety of life on navigable waterways during those events.

Aquapalooza is a boating event open to the Public that attracts many people and boats into Zach's Bay near Jones Beach State Park in Wantagh, NY for an afternoon of music and entertainment. The event sponsor expects to have 500 participants, including swimmers and boaters, and 150 boats attend the event. The large number of boats operating in close proximity to each other and to a swim area, operating at dangerous speeds for the conditions and the large number of vessels departing Zach's Bay at the conclusion of the event creates hazardous conditions in the form of potentially dangerous boat operations within heavily congested waters. These conditions are especially hazardous for any vessels attempting to navigate in the southbound direction and against the flow of the main vessel traffic at the conclusion of the event. The Coast Guard determined that a special local regulation that restricts vessel speed and the flow of vessel traffic will improve the safety of waterway users.

The Connecticut River Raft Race involves many participants operating human-powered and/or sail-powered vessels of their own design and construction along a stretch of the Connecticut River near Middletown, CT. The start and finish points of the race have been changed to locations within the same general area but with improved access to the Connecticut River creating safer entry and exit conditions for event participants and support personnel. Due to the hazards facing these participants, including the unknown and/or untested seaworthiness of their vessels and potential limitations to vessel navigation and/or maneuverability, the Coast Guard determined that a special local regulation that restricts vessel speed and operation is needed to protect participants, spectators and other waterway users during the event.

The Sebonack Golf Club fireworks display and the Bohlsen Wedding fireworks display are expected to attract large numbers of spectator vessels that will congregate around the locations of these events. The Coast Guard determined that safety zones are required for each of these fireworks displays to protect both spectators and participants from the hazards created by them, including unexpected pyrotechnics detonation and burning debris.

Island Beach Two Mile Swim is a swim event that is held in Captain Harbor near Greenwich, CT. Approximately 80 participants will swim an out and back, two mile course that starts on Little Captain Island, then continues roughly northwest for 1 mile towards Bower's Island and then returns along the same track to Little Captain's Island. The swim course includes waters routinely transited by commercial and recreational boat traffic which could present hazards, including increased risk of collision, to the event participants and safety and support resources. The Coast Guard has determined that a safety zone is required to protect the event participants from the hazards associated with swim events on navigable waters, including potential threats from commercial and recreational boat traffic. The safety zone would also improve visibility and maneuverability for the safety vessels and personnel supporting the event.

C. Discussion of the Final Rule

This rule establishes two special local regulations for two separate regattas and three safety zones for two fireworks display and one swim event. The location of these special regulated areas and safety zones are as follows:

Regattas
1 Aquapalooza | • Location: All navigable waters of Zach's Bay south of the line connecting a point near the western entrance to Zach's Bay in approximate position 40°36′29.20″ N, 073°29′22.88″ W and a point near the eastern entrance of Zach's Bay in approximate position 40°36′16.53″ N, 073°28′57.26″ W.
2 Connecticut River Raft Race | • Location: All waters of the Connecticut River Middletown, CT between Gildersleeve Island (Marker no. 99) 41°36′02.13″ N 072°37′22.71″ W and Portland Riverside Marina (Marker no. 88) 41°33′38.30″ N 072°37′36.53″ W (NAD 83).
Fireworks Displays
3 Sebonack Golf Club Fireworks | • Location: All waters of Great Peconic Bay within 1000 feet of the fireworks barge located ¾ of a mile northwest of Bullhead Bay, Shinnecock, NY in approximate position 40°55′11.79″ N, 072°28′04.34″ W (NAD 83).
4 Bohlsen Wedding Fireworks | • Location: All waters of Great South Bay within 600 feet of the fireworks barge located near the entrance to Champlin Creek, East Islip, NY in approximate position 40°42′28.91″ N, 073°12′19.57″ W (NAD 83).
Swim Event
5 Island Beach Two Mile Swim | • Location. The following area is a safety zone: All waters of Captain Harbor between Little Captain's Island and Bower's Island that are located within the box formed by connecting four points in the following positions. Beginning at 40°59′23.35″ N 073°36′42.05″ W, then northwest to 40°59′51.04″ N 073°37′57.32″ W, then southwest to 40°59′45.17″ N 073°38′01.18″ W, then southeast to 40°59′17.38″ N 073°36′45.90″ W, then northeast to the beginning point at 40°59′23.35″ N 073°36′42.05″ W (NAD 83). All positions are approximate.

The special local regulation established for Aquapalooza includes two measures to reduce the risks to waterways users of Zach's Bay before, during, and after the event. The first measure restricts vessel movement within the regulated area to no wake speed or 6 knots, whichever is slower on July 27, 2014 from 11:30 a.m. to 8 p.m. The second measure restricts all vessel movement within the regulated area to the outbound or northbound direction on July 27, 2014 from 3 p.m. to 5:30 p.m.

The special local regulation established for the Connecticut River Raft Race restricts vessel movement within the regulated area of the Connecticut River to no wake speed or 6 knots, whichever is slower and also stipulates that vessels shall not anchor, block, loiter, or impede the transit of event participants or official patrol vessels in the regulated areas unless authorized by COTP or designated representatives. Both measures will be enforced on August 2, 2014 from 9:30 a.m. to 2:30 p.m.

This rule prevents vessels from entering, transiting, mooring or anchoring within areas specifically designated as safety zones and establishes additional vessel movement rules within areas specifically under the jurisdiction of the special local regulations during the periods of enforcement unless authorized by the COTP or designated representative.

Public notifications will be made to the local maritime community prior to the event through the Local Notice to Mariners and Broadcast Notice to Mariners.

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The Coast Guard determined that this rulemaking is not a significant regulatory action for the following reasons: The enforcement of these regulated areas and safety zones will be relatively short in duration. Also, persons or vessels desiring entry into a regulated area or a deviance from the stipulations within a regulated area may be authorized to do so by the COTP Sector Long Island Sound or designated representative. Additionally, persons or vessels desiring to enter a safety zone may do so with permission from the COTP Sector Long Island Sound or designated representative. Furthermore, these special local regulations and safety zones are designed in a way to limit impacts on vessel traffic, permitting vessels to navigate in other portions of the waterways not designated as a regulated area or as a safety zone. Finally, to increase public awareness of these special local regulations and safety zones, the Coast Guard will notify the public of the enforcement of this rule via appropriate means, such as via Local Notice to Mariners and Broadcast Notice to Mariners.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This temporary final rule will affect the following entities, some of which may be small entities: The owners or operators of vessels intending to enter, transit, anchor or moor within a regulated area or a safety zone during the periods of enforcement from July 27, 2014 to August 17, 2014. However, this temporary final rule will not have a significant economic impact on a substantial number of small entities for the same reasons discussed in the REGULATORY PLANNING AND REVIEW section.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children From Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves the establishment of special local regulations and safety zones. This rule is categorically excluded from further review under paragraph 34(g) and (h) of Figure 2-1 of the Commandant Instruction. An environmental analysis checklist supporting this determination and a Categorical Exclusion Determination are available in the docket where indicated under ADDRESSES. We seek any comments or information that may lead to the discovery of a significant environmental impact from this rule.

List of Subjects

33 CFR Part 100

Marine safety, Navigation (water), Reporting and recordkeeping requirements, Waterways.

33 CFR Part 165

Harbors, Marine safety, Navigation (water), Reporting and recordkeeping requirements, Security measures, and Waterways.

For the reasons discussed in the preamble, the Coast Guard amends 33 CFR parts 100 and 165 as follows:

PART 100—SAFETY OF LIFE ON NAVIGABLE WATERS

1. The authority citation for part 100 continues to read as follows:

Authority: 33 U.S.C. 1233.

2. Add § 100.35T01-0446 to read as follows:

§ 100.35T01-0446 Special Local Regulations; Marine Events in Captain of the Port Long Island Sound Zone.

(a) Regulations. The general regulations contained in 33 CFR 100.35 as well as the following regulations apply to the marine events listed in Table to § 100.35T01-0446.

(b) Enforcement Period. This rule will be enforced on the dates and times listed for each event in Table to § 100.35T01-0446.

(c) Definitions. The following definitions apply to this section:

(1) Designated Representative. A “designated representative” is any commissioned, warrant or petty officer of the U.S. Coast Guard who has been designated by the Captain of the Port (COTP), Sector Long Island Sound, to act on his or her behalf. The designated representative may be on an official patrol vessel or may be on shore and will communicate with vessels via VHF-FM radio or loudhailer. While members of the Coast Guard Auxiliary will not serve as the designated representative, they may be present to inform vessel operators of this regulation.

(2) Official Patrol Vessels. Official patrol vessels may consist of any Coast Guard, Coast Guard Auxiliary, state, or local law enforcement vessels assigned or approved by the COTP.

(d) Vessel operators desiring to enter or operate within the regulated areas shall contact the COTP at 203-468-4401 (Sector Long Island Sound command center) or the designated representative via VHF channel 16.

(e) Vessels may not transit the regulated areas without the COTP or designated representative approval. Vessels permitted to transit must operate at a no wake speed or 6 knots, whichever is slower, and operate in a manner which will not endanger event participants or other crafts in the event.

(f) The COTP or designated representative may control the movement of all vessels in the regulated area. When hailed or signaled by an official patrol vessel, a vessel shall come to an immediate stop and comply with the lawful directions issued. Failure to comply with a lawful direction may result in expulsion from the area, citation for failure to comply, or both.

(g) The COTP or designated representative may delay or terminate any marine event in this section at any time it is deemed necessary to ensure the safety of life or property.

(h) The additional stipulations listed in TABLE to § 100.35T01-0446 also apply for the event in which they are listed.

Table to § 100.35T01-0446
Control(s) | Country Chart (See Supp. No. 1 to part 738)
1 Aquapalooza, Zach's Bay, Wantagh, NY | • Event type: Regatta. • Date: July 27, 2014. • Time: 11:30 a.m. to 8 p.m. • Location: All navigable waters of Zach's Bay south of the line connecting a point near the western entrance to Zach's Bay in approximate position 40°36′29.20″ N, 073°29′22.88″ W and a point near the eastern entrance of Zach's Bay in approximate position 40°36′16.53″ N, 073°28′57.26″ W. • Additional stipulations: On July 27, 2014 from 11:30 a.m. to 8 p.m. vessel speed in the regulated area is restricted to no wake speed or 6 knots, whichever is slower. On July 27, 2014 from 3 p.m. to 5:30 p.m. vessels may only transit the regulated area in the northbound direction or outbound direction.
2 Connecticut River Raft Race, Middletown, CT | • Event type: Boat Race. • Date: August 2, 2014. • Time: 9:30 a.m. to 2:30 p.m. • Location: All waters of the Connecticut River near Middletown, CT between Gildersleeve Island (Marker no. 99) 41°36′02.13″ N 072° 37′22.71″ W and Portland Riverside Marina (Marker no. 88) 41°33′38.30″ N 072°37′36.53″ W (NAD 83). • Additional Stipulations: Vessels shall not anchor, block, loiter, or impede the transit of event participants or official patrol vessels in the regulated areas unless authorized by COTP or designated representative.

PART 165—REGULATED NAVIGATION AREAS AND LIMITED ACCESS AREAS

3. The authority citation for Part 165 continues to read as follows:

Authority: 33 U.S.C. 1231; 46 U.S.C. Chapters 701, 3306, 3703; 50 U.S.C. 191, 195; 33 CFR 1.05-1, 6.04-1, 6.04-6, and 160.5; Pub. L. 107-295, 116 Stat. 2064; and Department of Homeland Security Delegation No. 0170.1

4. Add § 165.T01-0446 to read as follows:

§ 165.T01-0446 Safety Zones; Fireworks Displays and Swim Event in Captain of the Port Long Island Sound Zone.

(a) Regulations. The general regulations contained in 33 CFR 165.23 as well as the following regulations apply to the events listed in the TABLES 1 and 2 of § 165.T01-0446.

(b) Enforcement Period. This rule will be enforced on the dates and times listed for each event in TABLES 1 and 2 of § 165.T01-0446. If the event is delayed by inclement weather, the safety zone will be enforced on the rain date indicated in TABLES 1 and 2 of § 165.T01-0446.

(c) Definitions. The following definitions apply to this section:

(1) Designated Representative. A “designated representative” is any commissioned, warrant or petty officer of the U.S. Coast Guard who has been designated by the Captain of the Port (COTP), Sector Long Island Sound, to act on his or her behalf. The designated representative may be on an official patrol vessel or may be on shore and will communicate with vessels via VHF-FM radio or loudhailer. While members of the Coast Guard Auxiliary will not serve as the designated representative, they may be present to inform vessel operators of this regulation.

(2) Official Patrol Vessels. Official patrol vessels may consist of any Coast Guard, Coast Guard Auxiliary, state, or local law enforcement vessels assigned or approved by the COTP.

(d) Vessels desiring to enter or operate within a safety zone should contact the COTP or the designated representative via VHF channel 16 or by telephone at (203) 468-4401 to obtain permission to do so. Vessels given permission to enter or operate in a safety zone must comply with all directions given to them by the COTP Sector Long Island Sound or the designated on-scene representative.

(e) Upon being hailed by an official patrol vessel or the designated representative, by siren, radio, flashing light or other means, the operator of the vessel shall proceed as directed. Failure to comply with a lawful direction may result in expulsion from the area, citation for failure to comply, or both.

(f) Fireworks barges used in these locations will also have a sign on their port and starboard side labeled “FIREWORKS—STAY AWAY.” This sign will consist of 10 inch high by 1.5 inch wide red lettering on a white background.

(g) For the swim event listed in TABLE 2 to § 165.T01-446, vessels not associated with the event shall maintain a separation of at least 100 yards from the participants.

Table 1 to § 165.T01-0446
Fireworks Events
1 Sebonack Golf Club Fireworks | • Date: August 1, 2014. • Rain Date: August 8, 2014. • Time: 9 p.m. to 10:30 p.m. • Location: All waters of Great Peconic Bay within 1000 feet of the fireworks barge located ¾ of a mile northwest of Bullhead Bay, Shinnecock, NY in approximate position 40°55′11.79″ N, 072°28′04.34″ W (NAD 83).
2 Bohlsen Wedding Fireworks | • Date: August 16, 2014. • Rain Date: August 17, 2014. • Time: 8:45 p.m. to 10:45 p.m. • Location: All waters of Great South Bay within 600 feet of the fireworks barge located near the entrance to Champlin Creek, East Islip, NY in approximate position 40°42′28.91″ N, 073°12′19.57″ W (NAD 83).

Table 2 to § 165.T01-0446
Swim Events
1 Island Beach Two Mile Swim | • Date: August 9, 2014. • Time: 8 a.m. until 11 a.m. • Location: All waters of Captain Harbor between Little Captain's Island and Bower's Island that are located within the box formed by connecting four points in the following positions. Beginning at 40°59′23.35″ N 073°36′42.05″ W, then northwest to 40°59′51.04″ N 073°37′57.32″ W, then southwest to 40°59′45.17″ N 073°38′01.18″ W, then southeast to 40°59′17.38″ N 073°36′45.90″ W, then northeast to the beginning point at 40°59′23.35″ N 073°36′42.05″ W (NAD 83). All positions are approximate.

Dated: July 25, 2014.
E.J. Cubanski, III,
Captain, U.S. Coast Guard, Captain of the Port Sector Long Island Sound.

[FR Doc. 2014-19054 Filed 8-11-14; 8:45 am]

BILLING CODE 9110-04-P